DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Coastal and Estuarine Land Conservation, Planning, Protection, or Restoration.

OMB Control Number: 0648-0459.

Form Number(s): NA.

Type of Request: Regular submission (extension of a currently approved information collection).

Number of Respondents: 61.

Average Hours Per Response: Development of a plan, 120 hours; revision or update to a plan, 35 hours; project application and checklist, 15 hours; final application, 3 hours and 30 minutes; semiannual and annual reporting, 1 hour and 30 minutes.

Burden Hours: 1,405.

Needs and Uses: This request is for extension of a currently approved information collection. The FY 2002 Commerce, Justice, State Appropriations Act directed the Secretary of Commerce to establish a Coastal and Estuarine Land Conservation Program (CELCP) to protect important coastal and estuarine areas that have significant conservation, recreation, ecological, historical, or aesthetic values, or that are threatened by conversion, and to issue guidelines for this program delineating the criteria for grant awards. The guidelines establish procedures for eligible applicants who choose to participate in the program to use when developing state conservation plans, proposing or soliciting projects under this program, applying for funds, and carrying out projects under this program in a manner that is consistent with the purposes of the program. Guidelines for the CELCP can be found on NOAA's Web site at: http://coastalmanagement.noaa.gov/ and/or may be obtained upon request via the contact information listed above.

The CELCP was reauthorized under Public Law 111-111, the Omnibus Public Lands Management Act, as a component of the Coastal Zone Management Act. NOAA also has, or is given, additional authority under the Coastal Zone Management Act, annual appropriations or other authorities, to issue funds to coastal states, localities or other recipients for planning, conservation, acquisition, protection, restoration, or construction projects. The required information enables NOAA to implement the CELCP, under its current or future authorization, and facilitate the review of similar projects under different, but related, authorities.

Affected Public: State, local or tribal governments.

Frequency: Annually, semiannually or on occasion.

Respondent's Obligation: Required to obtain or retain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: July 20, 2012.
Gwellnar Banks,
Management Analyst, Office of the Chief Information Officer.

[FR Doc. 2012-18135 Filed 7-24-12; 8:45 am]

BILLING CODE 3510-08-P